DEPARTMENT OF ENERGY

Federal Energy Regulatory Commission

Combined Notice Of Filings

Take notice that the Commission has received the following Natural Gas Pipeline Rate and Refund Report filings:

Filings Instituting Proceedings

Docket Numbers: CP19-54-000.

Applicants: Transcontinental Gas Pipe Line Company, LLC.

Description: Application of Transcontinental Gas Pipe Line Company, LLC under 7(b) to abandon certain firm transportation services.

Filed Date: 1/22/19.

Accession Number: 20190122-5266.

Comments Due: 5 p.m. ET 2/12/19.

Docket Numbers: RP11-1711-000.

Applicants: Texas Gas Transmission, LLC.

Description: Report Filing: 2018 Cash Out Filing.

Filed Date: 1/29/19.

Accession Number: 20190129-5006.

Comments Due: 5 p.m. ET 2/11/19.

Docket Numbers: RP18-923-005.

Applicants: Enable Mississippi River Transmission, LLC.

Description: Compliance filing MRT Compliance Filing After 12-31-18 Order to be effective 1/1/2019.

Filed Date: 1/30/19.

Accession Number: 20190130-5195.

Comments Due: 5 p.m. ET 2/11/19.

Docket Numbers: RP19-76-001.

Applicants: Kern River Gas Transmission Company.

Description: Report Filing: TRC Refund Report.

Filed Date: 1/30/19.

Accession Number: 20190130-5049.

Comments Due: 5 p.m. ET 2/11/19.

Docket Numbers: RP19-584-000.

Applicants: Texas Eastern Transmission, LP.

Description: § 4(d) Rate Filing: Negotiated rate—Chevron release to Colonial 8955902 to be effective 2/1/2019.

Filed Date: 1/29/19.

Accession Number: 20190129-5005.

Comments Due: 5 p.m. ET 2/11/19.

Docket Numbers: RP19-585-000.

Applicants: Algonquin Gas Transmission, LLC.

Description: § 4(d) Rate Filing: Negotiated Rate—Bay 510066 to BBPC 798601 eff 2-1-19 to be effective 2/1/2019.

Filed Date: 1/29/19.

Accession Number: 20190129-5035.

Comments Due: 5 p.m. ET 2/11/19.

Docket Numbers: RP19-586-000.

Applicants: Aux Sable Canada LP,PetroChina International (Canada) Trading.

Description: Joint Petition for Temporary Waivers of Capacity Release Regulations and Related Tariff Provisions of Aux Sable Canada LP, et al.

Filed Date: 1/28/19.

Accession Number: 20190128-5210.

Comments Due: 5 p.m. ET 2/11/19.

Docket Numbers: RP19-587-000.

Applicants: Texas Eastern Transmission, LP.

Description: § 4(d) Rate Filing: Jan2019 NCF and NRA Cleanup to be effective 3/1/2019.

Filed Date: 1/29/19.

Accession Number: 20190129-5066.

Comments Due: 5 p.m. ET 2/11/19.

Docket Numbers: RP19-588-000.

Applicants: Texas Eastern Transmission, LP.

Description: § 4(d) Rate Filing: Negotiated Rate—MC Global to Eco-Energy 8955933 to be effective 2/1/2019.

Filed Date: 1/29/19.

Accession Number: 20190129-5067.

Comments Due: 5 p.m. ET 2/11/19.

Docket Numbers: RP19-589-000.

Applicants: Dominion Energy Overthrust Pipeline, LLC.

Description: Compliance filing Compliance Filing Pursuant to Settlement Proceeding to be effective 1/1/2019.

Filed Date: 1/29/19.

Accession Number: 20190129-5087.

Comments Due: 5 p.m. ET 2/11/19.

Docket Numbers: RP19-590-000.

Applicants: Algonquin Gas Transmission, LLC.

Description: § 4(d) Rate Filing: Negotiated Rate—Boston to SFE 798610 to be effective 2/1/2019.

Filed Date: 1/29/19.

Accession Number: 20190129-5136.

Comments Due: 5 p.m. ET 2/11/19.

Docket Numbers: RP19-591-000.

Applicants: Guardian Pipeline, L.L.C.

Description: § 4(d) Rate Filing: Negotiated Rate PAL Agreement—Exelon & Morgan Stanley to be effective 1/29/2019.

Filed Date: 1/29/19.

Accession Number: 20190129-5149.

Comments Due: 5 p.m. ET 2/11/19.

Docket Numbers: RP19-592-000.

Applicants: Midwestern Gas Transmission Company.

Description: § 4(d) Rate Filing: Negotiated Rate PAL Agreement—Koch Energy Services, LLC to be effective 1/29/2019.

Filed Date: 1/29/19.

Accession Number: 20190129-5152.

Comments Due: 5 p.m. ET 2/11/19.

Docket Numbers: RP19-593-000.

Applicants: Ruby Pipeline, L.L.C.

Description: § 4(d) Rate Filing: Filing to Update Quarterly FLU and EPC to be effective 3/1/2019.

Filed Date: 1/29/19.

Accession Number: 20190129-5169.

Comments Due: 5 p.m. ET 2/11/19.

Docket Numbers: RP19-594-000.

Applicants: Honeoye Storage Corporation.

Description: § 4(d) Rate Filing: 20190129 Volume No. 1A Changes to be effective 3/1/2019.

Filed Date: 1/29/19.

Accession Number: 20190129-5197.

Comments Due: 5 p.m. ET 2/11/19.

Docket Numbers: RP19-595-000.

Applicants: Rockies Express Pipeline LLC.

Description: § 4(d) Rate Filing: Neg Rate 2019-01-29 ConocoPhillips to be effective 1/29/2019.

Filed Date: 1/29/19.

Accession Number: 20190129-5206.

Comments Due: 5 p.m. ET 2/11/19.

Docket Numbers: RP19-596-000.

Applicants: Wyoming Interstate Company, L.L.C.

Description: § 4(d) Rate Filing: Update to Quarterly Fuel and Lost and Unaccounted For to be effective 3/1/2019.

Filed Date: 1/29/19.

Accession Number: 20190129-5208.

Comments Due: 5 p.m. ET 2/11/19.

Docket Numbers: RP19-597-000.

Applicants: Transcontinental Gas Pipe Line Company, LLC.

Description: § 4(d) Rate Filing: List of Non-Conforming Service Agreements (Gulf Connector) to be effective 2/1/2019.

Filed Date: 1/29/19.

Accession Number: 20190129-5216.

Comments Due: 5 p.m. ET 2/11/19.

Docket Numbers: RP19-598-000.

Applicants: Texas Gas Transmission, LLC.

Description: § 4(d) Rate Filing: Assignment of SWN Master Agmt to Flywheel & Perm Rel of NC Neg Rate Agmts to be effective 3/1/2019.

Filed Date: 1/30/19.

Accession Number: 20190130-5014.

Comments Due: 5 p.m. ET 2/11/19.

Docket Numbers: RP19-599-000.

Applicants: Texas Gas Transmission, LLC.

Description: § 4(d) Rate Filing: Update to Certain Pro Formas to be effective 3/1/2019.

Filed Date: 1/30/19.

Accession Number: 20190130-5015.

Comments Due: 5 p.m. ET 2/11/19.

Docket Numbers: RP19-600-000.

Applicants: Gulf Crossing Pipeline Company LLC.

Description: § 4(d) Rate Filing: Update to Certain Pro Formas to be effective 3/1/2019.

Filed Date: 1/30/19.

Accession Number: 20190130-5016.

Comments Due: 5 p.m. ET 2/11/19.

Docket Numbers: RP19-601-000.

Applicants: Gulf South Pipeline Company, LP.

Description: § 4(d) Rate Filing: Update to Certain Pro Forma Agreements to be effective 3/1/2019.

Filed Date: 1/30/19.

Accession Number: 20190130-5017.

Comments Due: 5 p.m. ET 2/11/19.

Docket Numbers: RP19-602-000.

Applicants: Texas Eastern Transmission, LP.

Description: § 4(d) Rate Filing: Negotiated Rate—Gulfport release to Eco-Energy 8955971 to be effective 2/1/2019.

Filed Date: 1/30/19.

Accession Number: 20190130-5048.

Comments Due: 5 p.m. ET 2/11/19.

Docket Numbers: RP19-603-000.

Applicants: NEXUS Gas Transmission, LLC.

Description: § 4(d) Rate Filing: Negotiated Rates—Columbia 860005 releases eff 2-1-2019 to be effective 2/1/2019.

Filed Date: 1/30/19.

Accession Number: 20190130-5050.

Comments Due: 5 p.m. ET 2/11/19.

Docket Numbers: RP19-604-000.

Applicants: Texas Eastern Transmission, LP.

Description: § 4(d) Rate Filing: Negotiated Rate—Chevron to Colonial 8955947 to be effective 2/1/2019.

Filed Date: 1/30/19.

Accession Number: 20190130-5129.

Comments Due: 5 p.m. ET 2/11/19.

Docket Numbers: RP19-605-000.

Applicants: Columbia Gas Transmission, LLC.

Description: § 4(d) Rate Filing: Rate Schedule AS—Aggregation Area 12 to be effective 3/1/2019.

Filed Date: 1/30/19.

Accession Number: 20190130-5142.

Comments Due: 5 p.m. ET 2/11/19.

Docket Numbers: RP19-606-000.

Applicants: El Paso Natural Gas Company, L.L.C.

Description: § 4(d) Rate Filing: Negotiated Rate Agreement Filing (Luminant) to be effective 2/1/2019.

Filed Date: 1/30/19.

Accession Number: 20190130-5146.

Comments Due: 5 p.m. ET 2/11/19.

Docket Numbers: RP19-607-000.

Applicants: Transcontinental Gas Pipe Line Company, LLC.

Description: § 4(d) Rate Filing: Rate Schedule S-2 Tracker Filings (EPC) eff 2/1/2019 to be effective 2/1/2019.

Filed Date: 1/30/19.

Accession Number: 20190130-5181.

Comments Due: 5 p.m. ET 2/11/19.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: January 31, 2019.
Nathaniel J. Davis, Sr.,
Deputy Secretary.

[FR Doc. 2019-01186 Filed 2-5-19; 8:45 am]

BILLING CODE 6717-01-P